FEDERAL COMMUNICATIONS COMMISSION

[FR ID 159999]

Open Commission Meeting Thursday, August 3, 2023

July 27, 2023.

The Federal Communications Commission will hold an Open Meeting on the subjects listed below on Thursday, July 20, 2023, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireless Telecommunications | Title: Advancing Understanding of Non-Federal Spectrum Usage (WT Docket No. 23-232).
|  | Summary: The Commission will consider a Notice of Inquiry that would initiate a technical inquiry into how to obtain more sophisticated knowledge of real-time non-Federal spectrum usage—and how the Commission could take advantage of modern capabilities for doing so in a cost-effective, accurate, scalable, and actionable manner. The Notice of Inquiry would explore the potential to advance the Commission's understanding of commercial spectrum usage by leveraging new data sources, methods, and technologies such as artificial intelligence and machine learning in an increasingly congested radiofrequency environment.
2 | Media | Title: Updating Digital FM Radio Service (MB Docket No. 22-405).
|  | Summary: The Commission will consider an Order and Notice of Proposed Rulemaking seeking comment on proposed changes to the methodology used to determine maximum power levels for digital FM broadcast stations and to the process for authorizing digital transmissions at different power levels on the upper and lower digital sidebands.
3 | Wireline Competition | Title: Affordable Connectivity Program High-Cost Benefit (WC Docket No. 21-450).
|  | Summary: The Commission will consider a Sixth Report and Order which would implement the Affordable Connectivity Program (ACP) high-cost area benefit, providing a discount of up to $75 per month for broadband services provided in qualifying high-cost areas, by participating ACP providers.
4 | Enforcement | Title: Enforcement Bureau Action.
|  | Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2023-16497 Filed 8-2-23; 8:45 am]

BILLING CODE 6712-01-P